DEPARTMENT OF HEALTH AND HUMAN SERVICES

Centers for Disease Control and Prevention

Guide to Community Preventive Services (GCPS) Task Force: Meeting

In accordance with section 10(a)(2) of the Federal Advisory Committee Act (Public Law 92-463), the Centers for Disease Control and Prevention (CDC) announces the following meeting:

Name: Task Force on Community Preventive Services

Times and Dates: 9 a.m.-6 p.m., June 12, 2002. 8:30 a.m.-3 p.m., June 13, 2002.

Place: The Sheraton Colony Square, 188 14th Street, NE, Atlanta, Georgia 30361, telephone (404) 892-6000.

Status: Open to the public, limited only by the space available.

Purpose: The mission of the Task Force is to develop and publish a Guide to Community Preventive Services, which is based on the best available scientific evidence and current expertise regarding essential public health services and what works in the delivery of those services.

Matters to be Discussed: Agenda items include: briefings on the administrative information, dissemination activities, economics reviews, and recommendation language; approved recommendations for the following interventions: Informed Decision Making, Interventions to Increase Breast, Cervical and Colorectal Cancer Screening: Group Education, Interventions to Reduce UV Exposure and Increase UV Protective Behaviors in Secondary Schools/Colleges, Disease and Care Management to Prevent Relapse and Recurrence, Mass Media Campaigns for Alcohol-Impaired Driving, Interventions on Transportation/Travel and Urban Design (Form)/Land-Use, Promoting the Personal Development And Parenting Skills of New and Expectant, Socially Disadvantaged Mothers and Youth Development, Targeted Vaccines Strategies, Therapeutic Foster Care for Prevention of Violence, and updates on the Clinical Guide and the Nutrition Chapter.

Agenda items are subject to change as priorities dictate.

Contact Person for Additional Information: Stephanie Zaza, M.D., Chief, Community Guide Branch, Division of Prevention Research and Analytic Methods, Epidemiology Program Office, CDC, 4770 Buford Highway, M/S K-73, Atlanta, Georgia 30341, telephone 770/488-8189.

Persons interested in reserving a space for this meeting should call 770/488-8189 by close of business on June 6, 2002.

The Director, Management Analysis and Services Office, has been delegated the authority to sign Federal Register notices pertaining to announcements of meetings and other committee management activities, for both the Centers for Disease Control and Prevention and the Agency for Toxic Substances and Disease Registry.

Dated: May 29, 2002.
Joseph Salter,
Acting Director, Management Analysis and Services Office, Centers for Disease Control and Prevention.

[FR Doc. 02-13882 Filed 6-3-02; 8:45 am]

BILLING CODE 4163-18-P